DEPARTMENT OF HOMELAND SECURITY

Federal Emergency Management Agency

[Docket ID FEMA-2017-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of October 5, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: August 10, 2017.
Roy E. Wright,
Deputy Associate Administrator for Insurance and Mitigation, Department of Homeland Security, Federal Emergency Management Agency.

Community | Community map repository address
Lafayette County, Florida and Incorporated Areas
Docket No.: FEMA-B-1616
Unincorporated Areas of Lafayette County | Lafayette County Building Department, 120 West Main Street, Mayo, FL 32066.
Palm Beach County, Florida and Incorporated Areas
Docket No.: FEMA-B-1447
City of Atlantis | City Hall, 260 Orange Tree Drive, Atlantis, FL 33462.
City of Belle Glade | City Hall, 110 Dr. Martin Luther King Jr. Boulevard West, Belle Glade, FL 33430.
City of Boca Raton | City Hall, 201 West Palmetto Park Road, Boca Raton, FL 33432.
City of Boynton Beach | City Hall, 100 East Boynton Beach Boulevard, Boynton Beach, FL 33435.
City of Delray Beach | City Hall, 100 Northwest 1st Avenue, Delray Beach, FL 33444.
City of Greenacres | City Hall, 5800 Melaleuca Lane, Greenacres, FL 33463.
City of Lake Worth | Community Sustainability Department, 1900 Second Avenue North, Lake Worth, FL 33461.
City of Pahokee | City Hall, 207 Begonia Drive, Pahokee, FL 33476.
City of Palm Beach Gardens | City Hall, 10500 North Military Trail, Palm Beach Gardens, FL 33410.
City of Riviera Beach | Community Development Department, 600 West Blue Heron Boulevard, Riviera Beach, FL 33404.
City of South Bay | City Hall, 335 Southwest 2nd Avenue, South Bay, FL 33493.
City of West Palm Beach | City Hall, Development Services Department, 401 Clematis Street, West Palm Beach, FL 33401.
Town of Briny Breezes | Town Hall, 4802 North Ocean Boulevard, Briny Breezes, FL 33435.
Town of Cloud Lake | Cloud Lake Town Hall, 100 Lang Road, West Palm Beach, FL 33406.
Town of Glen Ridge | Glen Ridge Town Hall, 1501 Glen Road, West Palm Beach, FL 33406.
Town of Gulf Stream | Town Hall, 100 Sea Road, Gulf Stream, FL 33483.
Town of Haverhill | Town Hall, 4585 Charlotte Street, Haverhill, FL 33417.
Town of Highland Beach | Building Department, 3616 South Ocean Boulevard, Highland Beach, FL 33487.
Town of Hypoluxo | Town Hall, 7580 South Federal Highway, Hypoluxo, FL 33462.
Town of Juno Beach | Town Center, 340 Ocean Drive, Juno Beach, FL 33408.
Town of Jupiter | Town Hall, 210 Military Trail, Jupiter, FL 33458.
Town of Jupiter Inlet Colony | Town Administration Building, 50 Colony Road, Jupiter Inlet Colony, FL 33469.
Town of Lake Clarke Shores | Town Hall, 1701 Barbados Road, Lake Clarke Shores, FL 33406.
Town of Lake Park | Town Hall, 535 Park Avenue, Lake Park, FL 33403.
Town of Lantana | Building Department, 318 South Dixie Highway, Lantana, FL 33462.
Town of Loxahatchee Groves | Town Hall, 155 F Road, Loxahatchee Groves, FL 33470.
Town of Manalapan | Building Department, 600 South Ocean Boulevard, Manalapan, FL 33462.
Town of Mangonia Park | Municipal Center, 1755 East Tiffany Drive, Mangonia Park, FL 33407.
Town of Ocean Ridge | Town Hall, 6450 North Ocean Boulevard, Ocean Ridge, FL 33435.
Town of Palm Beach | Town Hall, 360 South County Road, Palm Beach, FL 33480.
Town of Palm Beach Shores | Town Hall, 247 Edwards Lane, Palm Beach Shores, FL 33404.
Town of South Palm Beach | Town Hall, 3577 South Ocean Boulevard, South Palm Beach, FL 33480.
Unincorporated Areas of Palm Beach County | Palm Beach County Planning, Zoning and Building Department, 2300 North Jog Road, West Palm Beach, FL 33411.
Village of Golf | Village Hall, 21 Country Road, Village of Golf, FL 33436.
Village of North Palm Beach | Community Development Department, 420 US Highway 1, Suite 21, North Palm Beach, FL 33408.
Village of Palm Springs | Village Center Complex, 226 Cypress Lane, Palm Springs, FL 33461.
Village of Royal Palm Beach | Village Hall, 1050 Royal Palm Beach Boulevard, Royal Palm Beach, FL 33411.
Village of Tequesta | Village Hall, 345 Tequesta Drive, Tequesta, FL 33469.
Village of Wellington | Municipal Complex, 12300 Forest Hill Boulevard, Wellington, FL 33414.
Lincoln County, South Dakota and Incorporated Areas
Docket No.: FEMA-B-1613
Unincorporated Areas of Lincoln County | Lincoln County Planning and Zoning Department, 104 North Main Street, Suite 220, Canton, SD 57013.
Minnehaha County, South Dakota and Incorporated Areas
Docket No.: FEMA-B-1613
City of Sioux Falls | City Hall, Planning and Building Services Department, 224 West 9th Street, Sioux Falls, SD 57101.
Unincorporated Areas of Minnehaha County | Minnehaha County Planning Department, 415 North Dakota Avenue, Sioux Falls, SD 57104.

[FR Doc. 2017-18916 Filed 9-6-17; 8:45 am]

BILLING CODE 9110-12-P